ENVIRONMENTAL PROTECTION AGENCY

[EPA-HQ-OPP-2010-0761; FRL-8854-7]

FIFRA Scientific Advisory Panel; Notice of Change of Meeting Location

AGENCY: Environmental Protection Agency (EPA).

ACTION: Notice.

SUMMARY: The Agency is issuing this notice to change the meeting location of the December 7, 2010 Federal Insecticide, Fungicide, and Rodenticide Act Scientific Advisory Panel (FIFRA SAP) meeting. The FIFRA SAP is meeting to consider and review scientific issues associated with pesticide exposure models and climate change.

DATES: The meeting will be held on December 7, 2010, from 8:30 a.m. to approximately 5 p.m.

ADDRESSES: The meeting will be held at the Hyatt Regency, Tidewater Room Hyatt Regency Crystal City at Reagan National Airport, 2799 Jefferson Davis Highway, Arlington, VA 22202.

FOR FURTHER INFORMATION CONTACT: Fred Jenkins, DFO, Office of Science Coordination and Policy (7201M), Environmental Protection Agency, 1200 Pennsylvania Ave., NW., Washington, DC 20460-0001; telephone number: (202) 564-3327; fax number: (202) 564-8382; e-mail address: jenkins.fred@epa.gov.

SUPPLEMENTARY INFORMATION: All other information provided in the September 29, 2010 (75 FR 60110) Federal Register notice remains unchanged.

List of Subjects

Environmental protection, Pesticides and pests.

Dated: November 23, 2010.
Frank Sanders,
Director, Office of Science Coordination and Policy.

[FR Doc. 2010-29982 Filed 11-23-10; 4:15 pm]

BILLING CODE 6560-50-P